INTERIOR DEPARTMENT

National Indian Gaming Commission

Notice of Approved Class III Tribal Gaming Ordinance

AGENCY: National Indian Gaming Commission.

ACTION: Notice.

SUMMARY: The purpose of this notice is to inform the public of the approval of Estom Yumeka Maidu Tribe of the Enterprise Rancheria Class III gaming ordinance by the Chairman of the National Indian Gaming Commission.

DATES: This notice is applicable May 8, 2023.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On April 28, 2023, the Chairman of the National Indian Gaming Commission approved Estom Yumeka Maidu Tribe of the Enterprise Rancheria Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: May 2, 2023.
Rea Cisneros,
Acting General Counsel.

April 28, 2023

VIA EMAIL

Chairwoman Glenda Nelson

Estom Yumeka Maidu Tribe of the Enterprise Rancheria

2133 Monte Vista Avenue

Oroville, CA 95966

Re: Estom Yumeka Maidu Tribe of the Enterprise Rancheria Amended Gaming Ordinance

Dear Chairwoman Nelson:

This letter responds to the February 21, 2023 submission on behalf of the Estom Yumeka Maidu Tribe of the Enterprise Rancheria (“Tribe”) informing the National Indian Gaming Commission that the Tribe amended its gaming ordinance. The amendments to the tribal gaming code were intended to reflect the Tribe's current practices and needs and recent regulatory changes. Thank you for bringing these amendments to our attention. The amended ordinance, as noted above, is approved as it is consistent with the requirements of the Indian Gaming Regulatory Act and NIGC's regulations. If you have any questions or require anything further, please contact Rachel Hill at (918) 581-6214.

Sincerely,

E. Sequoyah Simermeyer, Chairman

cc: John A. Maier, Attorney, Maier Pfeffer Kim Geary & Cohen, LLP

[FR Doc. 2023-09747 Filed 5-5-23; 8:45 am]

BILLING CODE 7565-01-P